DEPARTMENT OF TRANSPORTATION

Federal Aviation Administration

14 CFR Part 97

[Docket No. 30857; Amdt. No. 3492]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 28, 2012. The compliance date for each SIAP, associated Takeoff Minimums, and ODP is specified in the amendatory provisions.

The incorporation by reference of certain publications listed in the regulations is approved by the Director of the Federal Register as of August 28, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on August 17, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 September 2012

Cold Bay, AK, Cold Bay, ILS OR LOC/DME RWY 15, Amdt 18

Cold Bay, AK, Cold Bay, LOC/DME BC RWY 33, Amdt 10

Fairbanks, AK, Fairbanks Intl, ILS OR LOC RWY 20R, ILS RWY 20R (SA CAT I), ILS RWY 20R (SA CAT II), Amdt 24

Fairbanks, AK, Fairbanks Intl, RNAV (GPS) Y RWY 2L, Orig-B

Fairbanks, AK, Fairbanks Intl, RNAV (GPS) Y RWY 20R, Amdt 1

Fairbanks, AK, Fairbanks Intl, RNAV (RNP) Z RWY 2L, Orig

Fairbanks, AK, Fairbanks Intl, RNAV (RNP) Z RWY 20R, Orig

Riverside, CA, Riverside Muni, ILS OR LOC RWY 9, Amdt 8

Riverside, CA, Riverside Muni, RNAV (GPS) RWY 9, Amdt 2

Riverside, CA, Riverside Muni, Takeoff Minimums and Obstacle DP, Amdt 10

Riverside, CA, Riverside Muni, VOR RWY 9, Amdt 1

Sterling, CO, Sterling Muni, GPS RWY 33, Orig, CANCELED

Sterling, CO, Sterling Muni, NDB RWY 33, Amdt 3

Sterling, CO, Sterling Muni, RNAV (GPS) RWY 15, Orig

Sterling, CO, Sterling Muni, RNAV (GPS) RWY 33, Orig

Sterling, CO, Sterling Muni, Takeoff Minimums and Obstacle DP, Amdt 1

Apopka, FL, Orlando Apopka, RNAV (GPS)-A, Orig

Apopka, FL, Orlando Apopka, RNAV (GPS)-B, Orig

Apopka, FL, Orlando Apopka, Takeoff Minimums and Obstacle DP, Orig

Okeechobee, FL, Okeechobee County, RNAV (GPS) RWY 5, Amdt 1A

Okeechobee, FL, Okeechobee County, RNAV (GPS) RWY 14, Amdt 1

Okeechobee, FL, Okeechobee County, RNAV (GPS) RWY 23, Amdt 2

Okeechobee, FL, Okeechobee County, RNAV (GPS) RWY 32, Orig-B

Williamsburg, KY, Williamsburg-Whitley County, LOC/DME RWY 20, Orig

Williamsburg, KY, Williamsburg-Whitley County, RNAV (GPS) RWY 2, Amdt 2

Williamsburg, KY, Williamsburg-Whitley County, RNAV (GPS) RWY 20, Amdt 1

Williamsburg, KY, Williamsburg-Whitley County, Takeoff Minimums and Obstacle DP, Amdt 1

Williamsburg, KY, Williamsburg-Whitley County, VOR/DME RWY 20, Orig-A

Baton Rouge, LA, Baton Rouge Metropolitan, Ryan Field, ILS OR LOC RWY 22R, Amdt 11

Baton Rouge, LA, Baton Rouge Metropolitan, Ryan Field, RNAV (GPS) RWY 4L, Amdt 2

Baton Rouge, LA, Baton Rouge Metropolitan, Ryan Field, RNAV (GPS) RWY 22R, Amdt 2

Bedford, MA, Laurence G Hanscom FLD, ILS OR LOC RWY 11, Amdt 26

Bedford, MA, Laurence G Hanscom FLD, ILS OR LOC RWY 29, Amdt 7

Bedford, MA, Laurence G Hanscom FLD, NDB RWY 29, Amdt 8

Bedford, MA, Laurence G Hanscom FLD, RNAV (GPS) RWY 23, Orig-A

Bedford, MA, Laurence G Hanscom FLD, RNAV (GPS) Z RWY 11, Amdt 1

Bedford, MA, Laurence G Hanscom FLD, RNAV (GPS) Z RWY 29, Amdt 1

Bedford, MA, Laurence G Hanscom FLD, RNAV (RNP) Y RWY 11, Orig

Bedford, MA, Laurence G Hanscom FLD, RNAV (RNP) Y RWY 29, Orig

Bedford, MA, Laurence G Hanscom FLD, VOR RWY 23, Amdt 9

Oxford, ME, Oxford County Rgnl, GPS RWY 33, Orig, CANCELED

Oxford, ME, Oxford County Rgnl, RNAV (GPS) RWY 15, Orig

Oxford, ME, Oxford County Rgnl, RNAV (GPS) RWY 33, Orig

St Louis, MO, Lambert-St Louis Intl, RNAV (RNP) Z RWY 11, Orig

St Louis, MO, Lambert-St Louis Intl, RNAV (RNP) Z RWY 12L, Orig

St Louis, MO, Lambert-St Louis Intl, RNAV (RNP) Z RWY 29, Orig

St Louis, MO, Lambert-St Louis Intl, RNAV (RNP) Z RWY 30R, Orig

Kearney, NE., Kearney Rgnl, ILS OR LOC RWY 36, Amdt 2

Kearney, NE., Kearney Rgnl, RNAV (GPS) RWY 13, Orig

Omaha, NE., Eppley Airfield, RNAV (GPS) Y RWY 14L, Amdt 1A

Omaha, NE., Eppley Airfield, RNAV (GPS) Y RWY 14R, Amdt 1A

Omaha, NE., Eppley Airfield, RNAV (GPS) Y RWY 18, Amdt 2A

Omaha, NE., Eppley Airfield, RNAV (GPS) Y RWY 32L, Amdt 1A

Omaha, NE., Eppley Airfield, RNAV (GPS) Y RWY 32R, Orig-B

Omaha, NE., Eppley Airfield, RNAV (RNP) Z RWY 14L, Orig

Omaha, NE., Eppley Airfield, RNAV (RNP) Z RWY 14R, Orig

Omaha, NE., Eppley Airfield, RNAV (RNP) Z RWY 18, Orig

Omaha, NE., Eppley Airfield, RNAV (RNP) Z RWY 32L, Orig

Omaha, NE., Eppley Airfield, RNAV (RNP) Z RWY 32R, Orig

Omaha, NE., Eppley Airfield, RNAV (RNP) Z RWY 36, Orig

Trenton, NJ, Trenton Mercer, GPS RWY 16, Orig-B, CANCELED

Trenton, NJ, Trenton Mercer, GPS RWY 34, Orig-A, CANCELED

Trenton, NJ, Trenton Mercer, ILS OR LOC RWY 6, Amdt 10

Trenton, NJ, Trenton Mercer, NDB RWY 6, Amdt 7

Trenton, NJ, Trenton Mercer, RNAV (GPS) RWY 16, Orig

Trenton, NJ, Trenton Mercer, RNAV (GPS) RWY 34, Orig

Trenton, NJ, Trenton Mercer, RNAV (GPS) Z RWY 6, Orig

Trenton, NJ, Trenton Mercer, RNAV (GPS) Z RWY 24, Orig

Trenton, NJ, Trenton Mercer, RNAV (RNP) Y RWY 6, Orig

Trenton, NJ, Trenton Mercer, VOR OR GPS RWY 24, Amdt 4B, CANCELED

Albuquerque, NM, Albuquerque Intl Sunport, RNAV (GPS) Y RWY 3, Orig-B

Albuquerque, NM, Albuquerque Intl Sunport, RNAV (GPS) Y RWY 8, Orig-A

Albuquerque, NM, Albuquerque Intl Sunport, RNAV (RNP) Y RWY 21, Orig

Albuquerque, NM, Albuquerque Intl Sunport, RNAV (RNP) Z RWY 3, Orig

Albuquerque, NM, Albuquerque Intl Sunport, RNAV (RNP) Z RWY 8, Orig

Albuquerque, NM, Albuquerque Intl Sunport, RNAV (RNP) Z RWY 21, Orig

Roseburg, OR, Roseburg Rgnl, Takeoff Minimums and Obstacle DP, Amdt 7

Providence, RI, Theodore Francis Green State, RNAV (GPS) Y RWY 23, Amdt 1A

Providence, RI, Theodore Francis Green State, RNAV (RNP) Z RWY 23, Orig

Harlingen, TX, Valley Intl, RNAV (GPS) Y RWY 13, Amdt 1A

Harlingen, TX, Valley Intl, RNAV (GPS) Y RWY 17R, Amdt 2

Harlingen, TX, Valley Intl, RNAV (GPS) Y RWY 31, Amdt 1A

Harlingen, TX, Valley Intl, RNAV (GPS) Y RWY 35L, Amdt 1A

Harlingen, TX, Valley Intl, RNAV (RNP) Z RWY 13, Orig

Harlingen, TX, Valley Intl, RNAV (RNP) Z RWY 17R, Orig

Harlingen, TX, Valley Intl, RNAV (RNP) Z RWY 31, Orig

Harlingen, TX, Valley Intl, RNAV (RNP) Z RWY 35L, Orig

Chase City, VA, Chase City Muni, RNAV (GPS) RWY 18, Amdt 1

Chase City, VA, Chase City Muni, RNAV (GPS) RWY 36, Amdt 1

Pullman/Moscow, ID, WA, Pullman/Moscow Rgnl, RNAV (GPS) RWY 6, Amdt 2

Pullman/Moscow, ID, WA, Pullman/Moscow Rgnl, RNAV (GPS) RWY 24, Amdt 1

Pullman/Moscow, ID, WA, Pullman/Moscow Rgnl, Takeoff Minimums and Obstacle DP, Amdt 4

Pullman/Moscow, ID, WA, Pullman/Moscow Rgnl, VOR RWY 6, Amdt 9

Clarksburg, WV, North Central West Virginia, ILS OR LOC RWY 21, Amdt 3

Clarksburg, WV, North Central West Virginia, RNAV (GPS) RWY 3, Amdt 1

Clarksburg, WV, North Central West Virginia, RNAV (GPS) RWY 21, Amdt 1

Clarksburg, WV, North Central West Virginia, Takeoff Minimums and Obstacle DP, Amdt 6

Clarksburg, WV, North Central West Virginia, VOR-A, Amdt 1

Effective 18 October 2012

Fort Huachuca/Sierra Vista, AZ, Sierra Vista Muni/Libby AAF, RADAR 1, Amdt 5, CANCELLED

[FR Doc. 2012-20863 Filed 8-27-12; 8:45 am]

BILLING CODE 4910-13-P